DEPARTMENT OF HEALTH AND HUMAN SERVICES

Office of the Secretary

[Document Identifier: HHS-OS-0990-New 30D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before August 12, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information please include the document identifier HHS-OS-0990-New-30D for reference.

Information Collection Request Title: Sustainability Study of Programs Funded by OAH in 2010 (Sustainability Study)

Abstract: The Office of Adolescent Health (OAH), U.S. Department of Health and Human Services (HHS) is requesting approval by OMB on a new collection. The Sustainability study is a key piece of OAH's broad and ongoing effort to comprehensively evaluate all of its funding efforts which consist of: (1) The Teen Pregnancy Prevention Program (TPP); the (2) Pregnancy Assistance Fund (PAF); and the CDC Communitywide program funded in collaboration with the Centers for Disease Control (CDC).

The proposed information request includes the instrument that will collect data on: (1) Whether and how federally-funded programs have been sustained; (2) factors affecting program sustainability; (3) methods and strategies employed by grantees to sustain programs; (4) support and technical assistance that grantees received related to sustaining the programs; and (5) key lessons learned based on the outcomes of these efforts. The data will be analyzed and incorporated into study deliverables that clearly describe former grantees' sustainability efforts for all audiences and highlight key challenges, successes, and lessons learned for future funding and program implementation.

The data will be used for the study team to identify key factors in program sustainability, the strategies that either worked or did not work in sustaining programs over time, and the types of support and assistance grantees required in order to sustain programs. Collecting this data is crucial to closing an existing gap in OAH knowledge about how to support the sustainability efforts of current and future PAF, TPP, and CDC Communitywide grantees.

Likely Respondents: Program administrators at up to 50 grantee organizations.

Total Estimated Annualized Burden—Hours
Form name | Annual number of respondents | Number of responses per respondent | Average burden per response (in hours) | Total burden hours
In-Depth Interview Master Topic Guide | 17 | 2 | 1.5 | 50.0
Total | 17 |  |  | 50.0

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-16573 Filed 7-8-16; 4:15 pm]

BILLING CODE 4168-11-P